DEPARTMENT OF COMMERCE

National Oceanic and Atmospheric Administration

[RTID 0648-XA504]

Gulf of Mexico Fishery Management Council; Public Meeting

AGENCY: National Marine Fisheries Service (NMFS), National Oceanic and Atmospheric Administration (NOAA), Commerce.

ACTION: Notice of a public meeting.

SUMMARY: The Gulf of Mexico Fishery Management Council will hold a one-day meeting of its Outreach & Education (O&E) Technical Committee.

DATES: The meeting will convene on Thursday, October 15, 2020, 9 a.m.-3:30 p.m., EDT. For agenda details, see SUPPLEMENTARY INFORMATION.

ADDRESSES: The meeting will be held via webinar. Please visit the Gulf Council website www.gulfcouncil.org for meeting materials and webinar registration information.

Council address: Gulf of Mexico Fishery Management Council, 4107 W Spruce Street, Suite 200, Tampa, FL 33607; telephone: (813) 348-1630.

FOR FURTHER INFORMATION CONTACT: Emily Muehlstein, Public Information Officer, Gulf of Mexico Fishery Management Council; emily.muehlstein@gulfcouncil.org, telephone: (813) 348-1630.

SUPPLEMENTARY INFORMATION: The following items are on the agenda, though agenda items may be addressed out of order (changes will be noted on the Council's website when possible.)

Thursday, October 15, 2020; 9 a.m.-3:30 p.m.

Introductions of members and staff, adoption of agenda, and approval of minutes from the October 9, 2019 meeting summary. Staff will give a presentation on Something's Fishy and discuss Committee recommendations for promotion and branding. The Committee will receive an update and presentation on For-Hire Electronic Reporting Outreach and discuss Committee feedback and recommendations. The Committee will receive an update on Natural Resource Damage Assessment (NRDA) Fish Descending Project; with presentations on O&E recommendations from Release Mortality Symposium, Project Update, South Atlantic Snapper/Grouper Project, and Committee feedback and recommendations for Device Distribution and Communications Strategy.

Staff will give a presentation on the Gulf Council's Communications Analytics, and request Committee feedback and recommendations; and receive a presentation on stakeholder feedback on the next Technical Committee Project.

The committee will discuss any Other Business items.

—Meeting Adjourns

The meeting will be broadcast via webinar only. You may register for the webinar by visiting www.gulfcouncil.org and clicking on the Council meeting on the calendar.

The Agenda is subject to change, and the latest version along with other meeting materials will be posted on www.gulfcouncil.org as they become available.

Although other non-emergency issues not on the agenda may come before the group for discussion, in accordance with the Magnuson-Stevens Fishery Conservation and Management Act (Magnuson-Stevens Act), those issues may not be the subject of formal action during this meeting. Actions will be restricted to those issues specifically identified in this notice and any issues arising after publication of this notice that require emergency action under section 305(c) of the Magnuson-Stevens Act, provided the public has been notified of the Council's intent to take action to address the emergency.

Authority: 16 U.S.C. 1801 et seq.

Dated: September 23, 2020.
Tracey L. Thompson,
Acting Deputy Director, Office of Sustainable Fisheries, National Marine Fisheries Service.

[FR Doc. 2020-21345 Filed 9-25-20; 8:45 am]

BILLING CODE 3510-22-P